DEPARTMENT OF ENERGY

Federal Energy Regulatory Commission

Combined Notice of Filings #1

Take notice that the Commission received the following electric corporate filings:

Docket Numbers: EC20-103-000.

Applicants: New Athens Generating Company, LLC, Millennium Power Partners, L.P.

Description: Application for Authorization Under Section 203 of the Federal Power Act, et al. of New Athens Generating Company, LLC.

Filed Date: 9/18/20.

Accession Number: 20200918-5171.

Comments Due: 5 p.m. ET 10/9/20.

Take notice that the Commission received the following exempt wholesale generator filings:

Docket Numbers: EG20-246-000.

Applicants: Altamont Winds LLC.

Description: Self-Certification of Exempt Wholesale Generator Status of Altamont Winds LLC.

Filed Date: 9/18/20.

Accession Number: 20200918-5153.

Comments Due: 5 p.m. ET 10/9/20.

Take notice that the Commission received the following electric rate filings:

Docket Numbers: ER15-2187-001.

Applicants: Chief Conemaugh Power, LLC.

Description: Compliance filing: Informational Filing Pursuant to Schedule 2 of the PJM OATT & Request for Waiver to be effective N/A.

Filed Date: 9/21/20.

Accession Number: 20200921-5148.

Comments Due: 5 p.m. ET 10/13/20.

Docket Numbers: ER15-2188-001.

Applicants: Chief Keystone Power, LLC.

Description: Compliance filing: Informational Filing Pursuant to Schedule 2 of the PJM OATT & Request for Waiver to be effective N/A.

Filed Date: 9/21/20.

Accession Number: 20200921-5161.

Comments Due: 5 p.m. ET 10/13/20.

Docket Numbers: ER20-2158-001.

Applicants: Midcontinent Independent System Operator, Inc., Ameren Illinois Company.

Description: Tariff Amendment: 2020-09-21_SA 3527 Deficiency Response Ameren Illinois-Hoopeston Wind (H094) FSA to be effective 8/25/2020.

Filed Date: 9/21/20.

Accession Number: 20200921-5134.

Comments Due: 5 p.m. ET 10/13/20.

Docket Numbers: ER20-2671-000.

Applicants: Water Strider Solar, LLC.

Description: Report Filing: Water Strider Solar MBR Informational Supplement to be effective N/A.

Filed Date: 9/16/20.

Accession Number: 20200916-5074.

Comments Due: 5 p.m. ET 10/7/20.

Docket Numbers: ER20-2922-000.

Applicants: California Independent System Operator Corporation.

Description: § 205(d) Rate Filing: 2020-09-18 Settlement Rules Amdt—Post-Day-Ahead Exceptional Dispatch Schedules to be effective 11/18/2020.

Filed Date: 9/18/20.

Accession Number: 20200918-5135.

Comments Due: 5 p.m. ET 10/9/20.

Docket Numbers: ER20-2923-000.

Applicants: Duke Energy Florida, LLC.

Description: § 205(d) Rate Filing: DEF-Southern Companies Concurrence Filing to be effective 8/4/2020.

Filed Date: 9/18/20.

Accession Number: 20200918-5137.

Comments Due: 5 p.m. ET 10/9/20.

Docket Numbers: ER20-2924-000.

Applicants: Idaho Power Company.

Description: § 205(d) Rate Filing: Revised SA 324 and 342 to be effective 7/1/2021.

Filed Date: 9/18/20.

Accession Number: 20200918-5139.

Comments Due: 5 p.m. ET 10/9/20.

Docket Numbers: ER20-2925-000.

Applicants: PJM Interconnection, L.L.C.

Description: Tariff Cancellation: Notice of Cancellation of ISA, SA No. 4758; Queue No. AA2-177 to be effective 10/12/2017.

Filed Date: 9/18/20.

Accession Number: 20200918-5141.

Comments Due: 5 p.m. ET 10/9/20.

Docket Numbers: ER20-2926-000.

Applicants: Altamont Winds LLC.

Description: Baseline eTariff Filing: Altamont Winds LLC MBR Tariff to be effective 11/1/2020.

Filed Date: 9/18/20.

Accession Number: 20200918-5143.

Comments Due: 5 p.m. ET 10/9/20.

Docket Numbers: ER20-2927-000.

Applicants: The Connecticut Light and Power Company.

Description: § 205(d) Rate Filing: Preliminary Engineering and Design Agreement with The University of Connecticut to be effective 9/21/2020.

Filed Date: 9/21/20.

Accession Number: 20200921-5030.

Comments Due: 5 p.m. ET 10/13/20.

Docket Numbers: ER20-2928-000.

Applicants: PJM Interconnection, L.L.C.

Description: § 205(d) Rate Filing: Original ISA, Service Agreement No. 5756; Queue Nos. AC1-109/AC1-111 to be effective 8/24/2020.

Filed Date: 9/21/20.

Accession Number: 20200921-5031.

Comments Due: 5 p.m. ET 10/13/20.

Docket Numbers: ER20-2929-000.

Applicants: Tri-State Generation and Transmission Association.

Description: Tariff Cancellation: Notice of Cancellation of Rate Schedule FERC No. 206 to be effective 9/22/2020.

Filed Date: 9/21/20.

Accession Number: 20200921-5041.

Comments Due: 5 p.m. ET 10/13/20.

Docket Numbers: ER20-2930-000.

Applicants: Southern California Edison Company.

Description: § 205(d) Rate Filing: Letter Agreement 326FW 8ME LLC Arida Solar Farm SA No. 253 to be effective 9/22/2020.

Filed Date: 9/21/20.

Accession Number: 20200921-5075.

Comments Due: 5 p.m. ET 10/13/20.

Docket Numbers: ER20-2931-000.

Applicants: PPL Electric Utilities Corporation, PJM Interconnection, L.L.C.

Description: § 205(d) Rate Filing: PPL submits ECSA No. 5770 to be effective 9/22/2020.

Filed Date: 9/21/20.

Accession Number: 20200921-5086.

Comments Due: 5 p.m. ET 10/13/20.

Docket Numbers: ER20-2932-000.

Applicants: Big Sky North, LLC.

Description: § 205(d) Rate Filing: First Amended and Restated Master Interconnection Services Agreement to be effective 9/22/2020.

Filed Date: 9/21/20.

Accession Number: 20200921-5087.

Comments Due: 5 p.m. ET 10/13/20.

Docket Numbers: ER20-2933-000.

Applicants: PJM Interconnection, L.L.C.

Description: Tariff Cancellation: Notice of Cancellation of ISA, SA No. 4762; Queue No. AC1-018 to be effective 11/16/2020.

Filed Date: 9/21/20.

Accession Number: 20200921-5088.

Comments Due: 5 p.m. ET 10/13/20.

Docket Numbers: ER20-2934-000.

Applicants: PPL Electric Utilities Corporation, PJM Interconnection, L.L.C.

Description: § 205(d) Rate Filing: PPL submits ECSA No. 5771 to be effective 9/22/2020.

Filed Date: 9/21/20.

Accession Number: 20200921-5091.

Comments Due: 5 p.m. ET 10/13/20.

Docket Numbers: ER20-2935-000.

Applicants: Summer Solar LLC.

Description: § 205(d) Rate Filing: Fourth Amended and Restated Shared Facilities Agreement to be effective 9/22/2020.

Filed Date: 9/21/20.

Accession Number: 20200921-5108.

Comments Due: 5 p.m. ET 10/13/20.

Docket Numbers: ER20-2936-000.

Applicants: Alabama Power Company.

Description: § 205(d) Rate Filing: Amended and Restated GA Solar 5 (Hickory Solar) LGIA Filing to be effective 9/4/2020.

Filed Date: 9/21/20.

Accession Number: 20200921-5129.

Comments Due: 5 p.m. ET 10/13/20.

Docket Numbers: ER20-2937-000.

Applicants: PJM Interconnection, L.L.C.

Description: § 205(d) Rate Filing: Amendment to WMPA, Service Agreement No. 4760; Queue No. AC1-147 re: CAAA to be effective 7/24/2017.

Filed Date: 9/21/20.

Accession Number: 20200921-5140.

Comments Due: 5 p.m. ET 10/13/20.

Docket Numbers: ER20-2938-000.

Applicants: PJM Interconnection, L.L.C.

Description: § 205(d) Rate Filing: Amendment to AD2-180 IISA No. 5627 to be effective 3/17/2020.

Filed Date: 9/21/20.

Accession Number: 20200921-5143.

Comments Due: 5 p.m. ET 10/13/20.

Docket Numbers: ER20-2939-000.

Applicants: Chief Conemaugh Power, LLC.

Description: Compliance filing: Informational Filing Pursuant to Schedule 2 of the PJM OATT and eTariff Baseline to be effective 9/22/2020.

Filed Date: 9/21/20.

Accession Number: 20200921-5156.

Comments Due: 5 p.m. ET 10/13/20.

Docket Numbers: ER20-2940-000.

Applicants: Chief Keystone Power, LLC.

Description: Compliance filing: Informational Filing Pursuant to Schedule 2 of the PJM OATT and eTariff Baseline to be effective 9/22/2020.

Filed Date: 9/21/20.

Accession Number: 20200921-5162.

Comments Due: 5 p.m. ET 10/13/20.

The filings are accessible in the Commission's eLibrary system (https://elibrary.ferc.gov/idmws/search/fercgensearch.asp) by querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: September 21, 2020.
Kimberly D. Bose,
Secretary.

[FR Doc. 2020-21204 Filed 9-24-20; 8:45 am]

BILLING CODE 6717-01-P